DEPARTMENT OF THE INTERIOR

Fish and Wildlife Service

Final Comprehensive Conservation Plan and Environmental Impact Statement for the Upper Mississippi River National Wildlife and Fish Refuge, Illinois, Iowa, Minnesota, and Wisconsin

AGENCY: Fish and Wildlife Service, Interior.

ACTION: Notice of availability.

SUMMARY: The U.S. Fish and Wildlife Service announces that the Final Comprehensive Conservation Plan (CCP) and Environmental Impact Statement (EIS) is available for Upper Mississippi River National Wildlife and Fish Refuge. The Final CCP/EIS was prepared pursuant to the National Wildlife Refuge System Administration Act of 1966, as amended by the National Wildlife Refuge System Improvement Act of 1997, and the National Environmental Policy Act of 1969. Goals and objectives in the CCP describe how the agency intends to manage the refuge over the next 15 years.

DATES: A Record of Decision will be signed by the Regional Director, U.S. Fish and Wildlife Service, Region 3, Fort Snelling, Minnesota, no sooner than 30 days after publication of this notice by the Environmental Protection Agency, in the Federal Register.

ADDRESSES: Copies of the Final CCP/EIS may be viewed at the Upper Mississippi River National Wildlife and Fish Refuge Headquarters, its district offices, and public libraries near the refuge. You may access and download a copy via the Planning Web site http://www.fws.gov/midwest/planning/uppermiss, or you may obtain a copy on compact disk by contacting: U.S. Fish and Wildlife Service, Division of Conservation Planning, Bishop Henry Whipple Federal Building, 1 Federal Drive, Fort Snelling, Minnesota 55111 (1-800-247-1247, extension 5429) or Upper Mississippi River National Wildlife and Fish Refuge, Room 101, 51 East Forth Street, Winona, Minnesota 55987 (507-452-4232). A limited number of hardcopies for distribution will be available at the Refuge Headquarters.

FOR FURTHER INFORMATION CONTACT: Don Hultman, (507) 452-4232.

SUPPLEMENTARY INFORMATION: The Upper Mississippi River National Wildlife and Fish Refuge encompasses 240,000 acres along 261 miles of Mississippi River floodplain in Minnesota, Wisconsin, Iowa, and Illinois. The refuge was established by Congress in 1924 to provide a refuge and breeding ground for migratory birds, fish, other wildlife, and plants. The refuge is perhaps the most important corridor of habitat in the central United States due to its species diversity and abundance and is the most visited refuge in the United States with 3.7 million annual visitors.

The Draft CCP/EIS was released for public review May 1, 2005, for a 120-day comment period ending August 31, 2005. The Refuge hosted 21 public meetings and workshops attended by 2,900 people. The workshops resulted in 87 workgroup reports with comments or recommendations on major issues. We also received 2,438 written comments including comments from the four states involved, the Corps of Engineers, and 41 conservation or recreation-related organizations, and 6 petitions with more than 3,000 signatures.

In response to the high degree of public interest and comment, a Supplement to the Draft CCP/EIS was issued December 5, 2005, for a 60-day comment, which was extended to 90 days, ending March 6, 2006. The Supplement was a new preferred alternative, named Alternative E—Modified Wildlife and Integrated Public Use Focus, and reflected many changes as a result of public comment. This new preferred alternative, along with the previous four alternatives, is included in the Final CCP/EIS.

The refuge hosted nine public meetings on Alternative E attended by approximately 890 persons. We also received 666 written comments on Alternative E from individuals, state and federal agencies, and organizations. These comments, along with those received during the first comment period, are summarized in the Final CCP/EIS, along with a response.

Several changes were made to Alternative E for the Final CCP/EIS in response to public and agency comments. These changes include the number, size and location of waterfowl hunting closed areas, electric motor areas, slow no wake areas, hiking trails, and wildlife observation areas; modifications to entry and use regulations pertaining to the above areas; minor modifications to general recreation regulations for camping and other beach-related uses; and changes to strategies and timelines for implementation of step-down plans and other actions.

When the Record of Decision is available, we will publish a notice of availability in the Federal Register. The Record of Decision will document which alternative in the Final CCP/EIS will become the 15-year CCP for the Refuge.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: May 16, 2006.
Charles M. Wooley,
Acting Regional Director, U.S. Fish and Wildlife Service, Fort Snelling, Minnesota.

[FR Doc. E6-10775 Filed 7-10-06; 8:45 am]

BILLING CODE 4310-55-P